INTERNATIONAL TRADE COMMISSION

[Investigation Nos. 701-TA-563 and 731-TA-1331-1333 (Review)]

Finished Carbon Steel Flanges From India, Italy, and Spain

Determinations

On the basis of the record ¹ developed in the subject five-year reviews, the United States International Trade Commission (“Commission”) determines, pursuant to the Tariff Act of 1930 (“the Act”), that revocation of the countervailing duty order on finished carbon steel flanges from India and the antidumping duty orders on finished carbon steel flanges from India, Italy, and Spain would be likely to lead to continuation or recurrence of material injury to an industry in the United States within a reasonably foreseeable time.

¹ The record is defined in § 207.2(f) of the Commission's Rules of Practice and Procedure (19 CFR 207.2(f)).

Background

The Commission instituted these reviews on May 2, 2022 (87 FR 25662) and determined on August 5, 2022 that it would conduct expedited reviews (87 FR 63798, October 20, 2022).

The Commission made these determinations pursuant to section 751(c) of the Act (19 U.S.C. 1675(c)). It completed and filed its determinations in these reviews on November 15, 2022. The views of the Commission are contained in USITC Publication 5385 (November 2022), entitled Finished Carbon Steel Flanges from India, Italy, and Spain: Investigation Nos. 701-TA-563 and 731-TA-1331-1333 (Review).

By order of the Commission.
Issued: November 15, 2022.
Katherine Hiner,
Acting Secretary to the Commission.

[FR Doc. 2022-25247 Filed 11-18-22; 8:45 am]

BILLING CODE 7020-02-P